DEPARTMENT OF THE INTERIOR

National Park Service

National Register of Historic Places; Notification of Pending Nominations

Nominations for the following properties being considered for listing in the National Register were received by the National Park Service before December 14, 2002. Pursuant to section 60.13 of 36 CFR part 60 written comments concerning the significance of these properties under the National Register criteria for evaluation may be forwarded by United States Postal Service, to the National Register Historic Places, National Park Service, 1849 C St., NW., 2280, Washington, DC 20240; by all other carriers, National Register of Historic Places, National Park Service, 1201 Eye St., NW., 8th floor, Washington DC 20005; or by fax, 202-343-1836. Written or faxed comments should be submitted by January 28, 2003.

Carol D. Shull,
Keeper of the National Register of Historic Places

ARIZONA

Maricopa County

Hunt Bass Hatchery Caretaker's House, Phoenix Zoo Grounds, 455 N. Galvin Pkwy., Phoenix, 02001723

Mesa Journal—Tribune FHA Demonstration Home, 238 W. 2nd St., Mesa, 02001721

Navajo County

Baird's Chevelon Steps, Address Restricted, Winslow, 02001724

CALIFORNIA

Orange County

Villa Park School, 10551 Center Dr., Villa Park, 02001725

CONNECTICUT

New Haven County

Westville Village Historic District, Roughly along Blake St. and Whalley Ave., New Haven, 02001727

Windham County

Forty-Seventh Camp of Rochambeau's Army, Address Restricted, Windham, 02001732

GUAM

Guam County

Guam Legislative Building Site, 163 Chalan Santo Papa Juan Pablo Dos, Hagatna, 02001722

IDAHO

Elmore County

Atlanta Ranger Station Historic District, Boise National Forest,

Atlanta, 02001726

MASSACHUSETTS

Middlesex County

Brookside Historic District, 1-44 Brookside, 5 Moore Rd., 1-7 Coolidge Ave., Westford, 02001729

McLean Hospital National Register District, 115 Mill St., Belmont, 02001733

NORTH CAROLINA

Wake County

Heartsfield—Perry Farm, NC 2224, 0.1 mi. SE of NC 2300, Rolesville, 02001728

OHIO

Seneca County

National Home, Daughters of America, 652 N. Sandusky St., Tiffin, 02001730

TEXAS

Harris County

Saturn V Launch Vehicle, Johnson Space Center, Houston, 02001731

UTAH

Box Elder County

Anderson, Martin, House, (Brigham City MPS) 105 N 300 W, Brigham City, 02001735

Fawson, Alfred and Marie, House, (Brigham City MPS) 66 S 100 W, Brigham City, 02001736

Forsgren, Peter and Anna Christena, House, 59 S 100 E, Brigham City, 02001737

Hoist, Christian and Annie, House, (Brigham City MPS) 495 S 200 E, Brigham City, 02001738

Kane County

Paryy Lodge, (Kanab, Utah MPS) 89 E. Center St., Kanab, 02001734

Salt Lake County

Salt Lake City East Side Historic District (Boundary Increase), Roughly bounded 400 South, University St., 900 South, and 700 East, Salt Lake City, 02001739

WISCONSIN

Kenosha County

Washington Park Clubhouse, 2205 Washington Rd., Kenosha, 02001740

Due to procedural error this nomination is being reprinted for comment:

NEW YORK

Tioga County

Halsey Valley Grand Army of Republic (GAR) Meeting Hall, Hamilton Valley Rd., Spencer vicinity, 02001646

[FR Doc. 03-587 Filed 1-10-03; 8:45 am]

BILLING CODE 4310-70-P